FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 28, 2010.

A. Federal Reserve Bank of Dallas (E. Ann Worthy, Vice President) 2200 North Pearl Street, Dallas, Texas 75201-2272:

1. Chandrakant B. Patel, Surekha Patel, Bipin Patel, Sandhya Patel, and Chandrakant B. Patel, as trustee of the following trusts: Sushil Patel 2010 Irrevocable Trust, Rajan Patel 2010 Irrevocable Trust, Shetal Patel 2010 Irrevocable Trust, and Toral Balakrishnan 2010 Irrevocable Trust (also known as “Patel Family Group”), all of Irving, Texas; to acquire voting shares of SBT Bancshares, Inc., and thereby indirectly acquire voting shares of State Bank of Texas, both of Dallas, Texas.

Board of Governors of the Federal Reserve System, December 8, 2010.
Robert deV. Frierson,
Deputy Secretary of the Board.

[FR Doc. 2010-31242 Filed 12-13-10; 8:45 am]

BILLING CODE 6210-01-P